DEPARTMENT OF LABOR

Employment and Training Administration

[TA-W-72,892]

Bostik, Inc. Formerly Known as ATO Findley Marshall, MI; Amended Certification Regarding Eligibility To Apply for Worker Adjustment Assistance

In accordance with Section 223 of the Trade Act of 1974, as amended (“Act”), 19 U.S.C. 2273, the Department of Labor issued a Certification of Eligibility to Apply for Worker Adjustment Assistance on December 28, 2009, applicable to workers of Bostik, Inc., a subsidiary of Elf Aquitaine, Marshall, Michigan. The notice was published in the Federal Register on February 16, 2010 (75 FR 7033).

At the request of the State Agency, the Department reviewed the certification for workers of the subject firm. The workers are engaged in the production of adhesives and sealants.

New information shows that Bostik, Inc. was formerly known as ATO Findley. Some workers separated from employment at Bostik, Inc. had their wages reported under a separate unemployment insurance (UI) tax account under the name ATO Findley.

Accordingly, the Department is amending this certification to properly reflect this matter.

The intent of the Department's certification is to include all workers of the subject firm who were adversely affected by a shift in the production of adhesives and sealants to the United Kingdom.

The amended notice applicable to TA-W-73,310 is hereby issued as follows:

All workers of Bostik, Inc., formerly known as ATO Findley, Marshall, Michigan, who became totally or partially separated from employment on or after November 18, 2008, through December 28, 2011, and all workers in the group threatened with total or partial separation from employment on date of certification through two years from the date of certification, are eligible to apply for adjustment assistance under Chapter 2 of Title II of the Trade Act of 1974, as amended.

Signed in Washington, DC, this 18th day of November 2010.
Del Min Amy Chen,
Certifying Officer, Office of Trade Adjustment Assistance.

[FR Doc. 2010-30545 Filed 12-6-10; 8:45 am]

BILLING CODE 4510-FN-P